DEPARTMENT OF HEALTH AND HUMAN SERVICES

Administration on Aging

[Program Announcement No. AoA-04-05]

Fiscal Year 2004 Program Announcement; Availability of Funds and Notice Regarding Applications

AGENCY: Administration on Aging, HHS.

ACTION: Announcement of availability of funds and request for applications to support Senior Medicare Patrol (SMP) project efforts for integration of Medicare and Medicaid fraud prevention, detection and reporting activities within states and communities.

SUMMARY: The Administration on Aging announces that under this program announcement it will hold a competition for grant awards for up to twenty (20) projects at a federal share of approximately $50,000 to $100,000 per year for a project period of up to three years. It is estimated that approximately $1,278,000 will be available for this competition.

Legislative authority: The Older Americans Act, Public Law 106-501.

(Catalog of Federal Domestic Assistance 93.048, Title IV, and the Health Insurance Portability and Accountability Act (HIPAA) of 1996 (Pub. L. 104-191)

Purpose of grant awards: The purpose of these projects is to expand capacity of current SMP projects to better fulfill the SMP program mission of health care fraud prevention, identification and reporting, through increased awareness of older consumers.

Eligibility for grant awards and other requirements: Eligibility for grant awards is limited to existing SMP project grantees. This does not include SMP grantees operating on no-cost extensions into the current grant period. Two or three current SMP project grantees may submit a joint regional application; however, the benefits of a regional approach must be supported. Grantees are required to provide at least 25 percent of the total program costs from non-federal cash or in-kind resources in order to be considered for the award.

Executive Order 12372 is not applicable to these grant applications.

Screening criteria: All applications will be screened to assure a level playing field for all applicants. Applications that fail to meet the screening criteria described below will not be reviewed and will receive no further consideration:

1. Postmark Requirements—Applications must be postmarked by midnight of the deadline date indicated below, or hand-delivered by 5:30 p.m., Eastern Time, on that date, or submitted electronically by midnight on that date.

2. Organizational Eligibility—Only current SMP project grantees are eligible to apply under this program announcement. This does not include SMP grantees operating on no-cost extensions into the current grant period.

3. Responsiveness to Priority Area Description—Applications will be screened on whether the application is responsive to the priority area description.

4. Project Narrative—The Project Narrative section of the application must not exceed 20 pages.

Review of applications: Applications will be evaluated against the following criteria: Purpose and Need for Assistance (20 points); Approach, Work Plan and Activities (30 points); Project Outcomes, Evaluation and Dissemination (30 points); and Level of Effort (20 points).

DATES: The deadline date for the submission of applications is August 16, 2004.

ADDRESSES: Application kits are available by writing to the U.S. Department of Health and Human Services, Administration on Aging, Office of Consumer Choice and Protection, Washington, DC 20201, by calling (202) 357-0139, or online at http://www.grants.gov.

Applications may be mailed to the U.S. Department of Health and Human Services, Administration on Aging, Office of Grants Management, Washington, DC 20201, attn: Margaret Tolson (AoA-04-05).

Applications may be delivered to the U.S. Department of Health and Human Services, Administration on Aging, Office of Grants Management, One Massachusetts Avenue, NW., Room 4604, Washington, DC 20001, attn: Margaret Tolson (AoA-04-05).

If you elect to mail or hand deliver your application you must submit one original and two copies of the application; an acknowledgement card will be mailed to applicants. Instructions for electronic mailing of grant applications are available at http://www.grants.gov/.

SUPPLEMENTARY INFORMATION: All grant applicants must obtain a D-U-N-S number from Dun and Bradstreet. It is a nine-digit identification number, which provides unique identifiers of single business entities. The D-U-N-S number is free and easy to obtain from http://www.dnb.com/US/duns_update/.

FOR FURTHER INFORMATION CONTACT: U.S. Department of Health and Human Services, Administration on Aging, Office of Grants Management, Washington, DC 20201, telephone: (202) 357-3440.

Dated: June 25, 2004.
Josefina G. Carbonell,
Assistant Secretary for Aging.

[FR Doc. 04-14904 Filed 6-30-04; 8:45 am]

BILLING CODE 4154-01-P